INTERNATIONAL TRADE COMMISSION

[Investigation Nos. 731-TA-1435-1436 and 1439 (Final)]

Acetone From Belgium, Korea, and South Africa; Supplemental Schedule for the Final Phase of Antidumping Duty Investigations

AGENCY: United States International Trade Commission.

ACTION: Notice.

DATES: December 10, 2019.

FOR FURTHER INFORMATION CONTACT: Abu B. Kanu ((202) 205-2597), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective July 29, 2019, the Commission established a general schedule for the conduct of the final phase of its investigations on acetone from Belgium, Korea, Singapore, South Africa, and Spain,¹ following a preliminary determination by the U.S. Department of Commerce (“Commerce”) that imports of acetone from Belgium, Korea, Singapore, South Africa, and Spain were being sold at less than fair value (LTFV) in the United States.² Notice of the scheduling of the final phase of the Commission's investigations and of a public hearing to be held in connection therewith was given by posting copies of the notice in the Office of the Secretary, U.S. International Trade Commission, Washington, DC, and by publishing the notice in the Federal Register of August 26, 2019 (84 FR 44635). The hearing was held in Washington, DC, on October 21, 2019, and all persons who requested the opportunity were permitted to appear in person or by counsel. On October 21, 2019, Commerce issued a final affirmative determination of sales at LTFV with respect to imports of acetone from Singapore and Spain.³ The Commission issued its final affirmative determination regarding LTFV imports of acetone from Singapore and Spain on December 5, 2019.

¹ 84 FR 44635, August 26, 2019.

² 84 FR 38005 and 84 FR 37990, August 5, 2019 and 84 FR 49999, 84 FR 50005, and 84 FR 49984, September 24, 2019.

³ 84 FR 56171 and 84 FR 56166, October 21, 2019.

On February 13, 2020, Commerce issued its final affirmative determinations that imports of acetone from Belgium, Korea, and South Africa were being sold at LTFV in the United States.⁴ Accordingly, the Commission currently is issuing a supplemental schedule for its antidumping investigations on imports of acetone from Belgium, Korea, and South Africa.

⁴ 85 FR 8249, 85 FR 8252, and 85 FR 8247, February 13, 2020.

This supplemental schedule is as follows: The deadline for filing supplemental party comments on Commerce's final antidumping duty determination is February 28, 2020. Supplemental party comments may address only Commerce's final antidumping duty determination regarding imports of acetone from Belgium, Korea, and South Africa. These supplemental final comments may not contain new factual information and may not exceed five (5) pages in length. The supplemental staff report in the final phase of these investigations regarding subject imports from Belgium, Korea, and South Africa will be placed in the nonpublic record on March 10, 2020; and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: February 20, 2020.
Katherine Hiner,
Supervisory Attorney.

[FR Doc. 2020-03820 Filed 2-25-20; 8:45 am]

BILLING CODE 7020-02-P